DEPARTMENT OF DEFENSE

Office of the Secretary

[Transmittal No. 21-0A]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 21-0A with attached Policy Justification.

Dated: December 17, 2020.
Aaron T. Siegel,
Alternate OSD Federal Register Liaison Officer, Department of Defense.

BILLING CODE 5001-06-P

BILLING CODE 5001-06-C

Transmittal No. 21-0A

REPORT OF ENHANCEMENT OR UPGRADE OF SENSITIVITY OF TECHNOLOGY OR CAPABILITY (SEC. 36(B)(5)(C), AECA)

(i) Purchaser: Government of the United Arab Emirates

(ii) Sec. 36(b)(1), AECA Transmittal No.: 17-20

Date: March 7, 2018

Military Department: Navy

(iii) Description: On March 7, 2018, Congress was notified by Congressional certification transmittal number 17-20 of the possible sale under Section 36(b)(1) of the Arms Export Control Act of three hundred (300) AIM-9X-2 Sidewinder Block II All-Up-Round Missiles; forty (40) AIM-9x-2 Sidewinder Captive Air Training Missiles (CATMs); thirty (30) AIM-9x-2 Block II Tactical Guidance Units; fifteen (15) AIM-9x-2 CATM Units; containers; spares; support equipment and missile support; U.S. Government and contractor technical assistance and other related logistics support; and other associated support equipment and services. The estimated cost was $270.4 million. Major Defense Equipment (MDE) constituted $240 million of this total.

This transmittal reports the addition of five hundred (500) Sidewinder AIM 9X Block II+ (Plus) Tactical Missiles; forty (40) Sidewinder AIM 9X Block II Captive Air Training Missiles (CATMs); three (3) Sidewinder AIM 9X Block II Special Air Training Missiles (NATMS); fifty (50) Sidewinder AIM 9X Block II+ (Plus) Tactical Guidance Units; twenty-five (25) Sidewinder AIM 9X Block II CATM Guidance Units; containers; spares; support equipment and missile support; U.S. Government and contractor technical assistance and other related logistics support; and other associated support equipment and services with a value of $490 million. The total notified cost of MDE will increase to $730 million, and the total notified case value will increase to $840.5 million.

(iv) Significance: This notification is being provided to report the inclusion of MDE items not previously notified. This potential sale will improve the UAE's capability to meet current and future threats and provide greater security for its critical infrastructure. The addition of the Sidewinder AIM 9X Block II+ (Plus) Tactical Missiles represents an increase in capability over what was previously notified. The UAE will use the enhanced capability to strengthen its homeland defense.

(v) Justification: This proposed sale of the Sidewinder AIM 9X Block II+ (Plus) Tactical Missile will support the foreign policy and national security of the United States by helping to improve the security of an important regional partner. The UAE has been, and continues to be, a vital U.S. partner for political stability and economic progress in the Middle East.

(vi) Sensitivity of Technology: The Sidewinder AIM 9X Block II+ (Plus) Tactical Missile represents a substantial increase in missile acquisition and kinematics performance over the AIM-9M and replaces the AIM 9X Block I Missile configuration. The missile includes a high off-boresight seeker, enhanced countermeasure rejection capability, low drag/high angle of attack airframe and the ability to integrate the Helmet Mounted Cueing System. The software algorithms are the most sensitive portions of the Sidewinder AIM 9X Block II+ (Plus) Tactical Missile. The software continues to be modified via a Pre-Planned Product Improvement (P3I) program in order to improve its counter-countermeasure capabilities. No software source code or algorithms will be released. The highest level of classification of information included in this potential sale is SECRET.

(vii) Date Report Delivered to Congress: November 09, 2020

[FR Doc. 2020-28320 Filed 12-22-20; 8:45 am]

BILLING CODE 5001-06-P